DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard identification Section, Emergency Preparedness and Response Directorate, FEMA, 500 C Street, SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. *Elevation in feet (NGVD) • Elevation in feet (NAVD)
INDIANA
Adams County
Yellow Creek:
At the confluence with St. Marys River | * 790
Approximately 1,750 feet upstream of Norfolk and Western Rail | * 790
Adams County (Unincorporated Areas)
Blue Creek:
At the confluence with St. Marys River | * 793
At U.S. Route 27 | * 836
Adams County (Unincorporated Areas)
St. Marys River
At South County Line Road | * 787
At the upstream state boundary | * 794
Adams County (Unincorporated Areas), City of Decatur
Kohne Drain No. 1:
At confluence with Holthouse Ditch | * 786
Just downstream of County Road 050 West | * 796
City of Decatur, Adams County (Unincorporated Areas)
Borum Run:
At the confluence with St. Marys River | * 789
Approximately 0.98 mile upstream of High Street | * 789
City of Decatur, Adams County (Unincorporated Areas)
Koos Ditch
At the confluence with St. Marys River | * 788
Approximately 1,175 feet upstream of Piqua Road | * 788
City of Decatur, Adams County (Unincorporated Areas)
Holthouse Ditch:
At the confluence with St. Marys River | * 786
Approximately 1,400 feet downstream of Nottman Road | * 787
City of Decatur, Adams County (Unincorporated Areas)
Adams County (Unincorporated Areas)
Maps available for inspection at the Office of the Adams County Board of Commissioners, 313 West Jefferson, Room 251, Decatur, Indiana.
City of Decatur
Maps available for inspection at the Decatur City Hall, 225 West Monroe Street, Decatur, Indiana.
OHIO
Hamilton County (Unincorporated Areas) (FEMA Docket No. D-7562)
Congress Run:
Approximately 0.7 mile upstream of Ridgeway Avenue | * 623
Approximately 0.9 mile upstream of Ridgeway Avenue | * 630
City of Wyoming
Duck Creek:
Approximately 0.4 mile downstream of Redbank Road | * 510
Approximately 0.5 mile upstream of Railroad | * 549
Hamilton County (Unincorporated Areas), Village of Fairfax
East Fork Mill Creek:
At the confluence with Mill Creek | * 584
At the City of Sharonville corporate limits | * 587
City of Sharonville
Little Miami River:
Approximately 0.9 mile downstream of Railroad | * 501
Approximately 0.6 mile upstream of Railroad | * 593
Village of Mariemont, City of Loveland
Mill Creek:
Just Upstream of the Barrier Dam | * 480
At the City of Sharonville corporate limits | * 586
Cities of Cincinnati, Reading, Sharonville, and St. Bernard, Villages of Elmwood Place, Evendale, and Lockland
North Branch Sycamore Creek:
Approximately 0.61 mile downstream of U.S. Route 22 | * 696
Approximately 0.6 mile downstream of U.S. Route 22 | * 697
Village of Indian Hill
Polk Run/Lake Chetak Creek:
Approximately 0.8 mile downstream of East Kemper Road | * 586
Approximately 1,390 feet upstream of East Kemper Road | * 690
Hamilton County (Unincorporated Areas)
Sharon Creek:
At the confluence with Mill Creek | * 571
Approximately 320 feet upstream of confluence with Mill Creek | * 571
City of Evendale
Sycamore Creek:
Approximately 550 feet downstream of Railroad | * 729
Approximately 250 feet downstream of Carmargo Road | * 742
Village of Indian Hill
West Fork Mill Creek:
Approximately 1.6 miles upstream of Riddle Road | * 614
Approximately 0.9 mile upstream of Riddle Road | • 594
Village of Woodlawn
O'Bannon Creek:
At the confluence with Little Miami River | • 591
At the Hamilton County corporate limits | • 591
Hamilton County (Unincorporated Areas)
Maps available for inspection at the Hamilton County Department of Public Works, 138 East Court Street, Cincinnati, Ohio.
City of Cincinnati
Maps available for inspection at the Cincinnati City Hall, 801 Plum Street, Cincinnati, Ohio.
Village of Elmwood Place
Maps available for inspection at the Elmwood Place Village Hall, 6118 Vine Street, Elmwood Place, Ohio.
Village of Evendale
Maps available for inspection at the Evendale Village Hall, 10500 Reading Road, Evendale, Ohio.
Village of Fairfax
Maps available for inspection at the Fairfax Village Hall, 5903 Hawthorne Street, Fairfax, Ohio.
Village of Lockland
Maps available for inspection at the Lockland Village Hall, 101 North Cooper Avenue, Lockland, Ohio.
City of Loveland
Maps available for inspection at the Loveland Building and Zoning Department, 120 West Loveland Avenue, Loveland, Ohio.
Village of Mariemont
Maps available for inspection at the Mariemont Village Hall, 6907 Wooster Pike, Mariemont, Ohio.
City of Reading
Maps available for inspection at the Reading City Hall, 1000 Market Street, Reading, Ohio.
City of Sharonville
Maps available for inspection at the Sharonville City Hall, 10900 Reading Road, Sharonville, Ohio.
City of St. Bernard
Maps available for inspection at the St. Bernard City Hall, 110 Washington Avenue, St. Bernard, Ohio.
Village of Woodlawn
Maps available for inspection at the Woodlawn Village Hall, 10141 Woodlawn Boulevard, Woodlawn, Ohio.
Village of Wyoming
Maps available for inspection at the Wyoming City Hall, 800 Oak Avenue, Wyoming, Ohio.

Dated: December 18, 2003.
(Catalog of Federal Domestic Assistance No. 83.100, “Flood Insurance”)
Anthony S. Lowe,
Mitigation Division Director, Emergency Preparedness and Response Directorate.

[FR Doc. 04-158 Filed 1-5-04; 8:45 am]

BILLING CODE 9110-12-M